DEPARTMENT OF THE TREASURY

Internal Revenue Service

Proposed Collection; Comment Request for Revenue Procedure 2005-26; Correction

AGENCY: Internal Revenue Service (IRS), Treasury.

ACTION: Correction to notice and request for comments.

SUMMARY: This document contains corrections to a notice and request for comments, which was published in the Federal Register on Tuesday, May 31, 2005 (70 FR 31015). This notice relates to the Department of the Treasury's invitation to the general public to submit public comments on proposed and/or continuing information collections.

FOR FURTHER INFORMATION CONTACT: Larnice Mack, (202) 622-3179 (not a toll-free number).

SUPPLEMENTARY INFORMATION:

Background

The notice and request for comments that is the subject of these corrections is required by the Paperwork Reduction Act of 1995, Public Law 104-13 (44 U.S.C. 3506(c)(2)(A)).

Need for Correction

As published, the comment request for Revenue Procedure 2005-26 contains errors which may prove to be misleading and are in need of clarification.

Correction of Publication

Accordingly, the publication of the comment request for Revenue Procedure 2005-26, which was the subject of FR Doc. E5-2720, is corrected as follows:

1. On page 31015, column 1, in the heading, the title “Proposed Collection; Comment Request for Revenue Procedure 101177-05” is corrected to read “Proposed Collection; Comment Request for Revenue Procedure 2005-26”.

2. On page 31015, column 2, under the caption SUPPLEMENTARY INFORMATION, the language “Revenue Procedure Number: Revenue Procedure 101177-05.” is corrected to read “Revenue Procedure Number: Revenue Procedure 2005-26.”

Cynthia E. Grigsby,
Acting Chief, Publications and Regulations Branch, Legal Processing Division, Associate Chief Counsel (Procedure and Administration).

[FR Doc. E5-3085 Filed 6-15-05; 8:45 am]

BILLING CODE 4830-01-P